ENVIRONMENTAL PROTECTION AGENCY

[EPA-HQ-OLEM-2018-0367; FRL-10984-01-OLEM]

Proposed Information Collection Request; Comment Request; Underground Storage Tanks: Technical and Financial Requirements, and State Program Approval Procedures (Renewal)

AGENCY: Environmental Protection Agency (EPA).

ACTION: Notice.

SUMMARY: The Environmental Protection Agency is planning to submit an information collection request (ICR), “Underground Storage Tanks: Technical and Financial Requirements, and State Program Approval Procedures (Renewal)” (EPA ICR No. 1360.18, OMB Control No. 2050-0068) to the Office of Management and Budget (OMB) for review and approval in accordance with the Paperwork Reduction Act (PRA). Before doing so, EPA is soliciting public comments on specific aspects of the proposed information collection as described below. This is a proposed extension of the ICR, which is currently approved through April 30, 2024. An Agency may not conduct or sponsor and a person is not required to respond to a collection of information unless it displays a currently valid OMB control number.

DATES: Comments must be submitted on or before September 11, 2023.

ADDRESSES: Submit your comments, referencing Docket ID No. EPA-HQ-OLEM-2018-0367 online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

FOR FURTHER INFORMATION CONTACT: Elizabeth McDermott, Office of Underground Storage Tanks, Mail Code 5401T, Environmental Protection Agency, 1200 Pennsylvania Ave. NW, Washington, DC 20460; telephone number: (202) 564-0646; email address: mcdermott.elizabeth@epa.gov.

SUPPLEMENTARY INFORMATION: Pursuant to section 3506(c)(2)(A) of the PRA (44 U.S.C. 3506(c)(2)(A)), EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Subtitle I of the Resource Conservation and Recovery Act (RCRA), as amended, requires that EPA develop standards for Underground Storage Tank (UST) systems, as may be necessary, to protect human health and the environment, and procedures for approving state programs in lieu of the Federal program. EPA promulgated technical and financial requirements for owners and operators of USTs at 40 CFR part 280, and state program approval procedures at 40 CFR part 281. This ICR is a comprehensive presentation of all information collection requirements contained at 40 CFR parts 280 and 281.

The data collected for new and existing UST system operations and financial requirements are used by owners and operators and/or EPA or the implementing agency to monitor results of testing, inspections, and operation of UST systems, as well as to demonstrate compliance with regulations. EPA believes strongly that if the minimum requirements specified under the regulations are not met, neither the facilities nor EPA can ensure that UST systems are being managed in a manner protective of human health and the environment.

EPA uses state program applications to determine whether to approve a state program. Before granting approval, EPA must determine that programs will be no less stringent than the Federal program and contain adequate enforcement mechanisms.

Form Numbers: None.

Respondents/affected entities: Facilities that own and operate underground storage tanks (USTs), states that implement the UST programs, and tribes.

Respondent's obligation to respond: Mandatory (40 CFR part 280).

Estimated number of respondents: 196,483.

Frequency of response: Once, on occasion, annual.

Total estimated burden: 8,332,870 hours (per year). Burden is defined at 5 CFR 1320.03(b).

Total estimated cost: $689,740,286 (per year), includes $406,057,091 annualized capital or operation & maintenance costs.

Changes in Estimates: There is a decrease of 389,322 hours in the total estimated respondent burden hours compared with the ICR currently approved by OMB. There is a total decrease in burden hours because the overall number of underground storage tanks decreased while the requirements for each tank owner remained the same. In addition, during the last ICR EPA approved thirty states for state program approval but only expects to approve 12 during this ICR.

Mark Barolo,
Director, Office of Underground Storage Tanks.

[FR Doc. 2023-14651 Filed 7-10-23; 8:45 am]

BILLING CODE 6560-50-P